DEPARTMENT OF THE INTERIOR

National Park Service

National Register of Historic Places; Notification of Pending Nominations

Nominations for the following properties being considered for listing in the National Register were received by the National Park Service before February 21, 2004. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by March 17, 2004.

Carol D. Shull,
Keeper of the National Register of Historic Places.

ALABAMA

De Kalb County

Larmore, Vance C., House, 810 Cty Rd. 606, Hammondville, 04000232.

Jefferson County

Rosedale Historic District, Roughly bounded by 25th Court S, Central Ave., 27th Court S., Loveless/BM Montgomery St., Homewood, 04000236.

Rosedale Park Historic District, Roughly bounded by Woodcrest Place, 26th Ave. S, 18th St. S, and 25th Ct. S, Homewood, 04000235.

Madison County

New Market Historic District, Roughly bounded by Mountain Fork, College St., Davis St., Winchester Rd. to Cochran St., pts. Cochran St. & Cedar St., New Market, 04000237.

Tuscaloosa County

East Northport Historic District, Roughly bounded by 20th St., 8th Ave., Rice Mine Rd., Bridge Ave., Northport, 04000234.

Northport Historic District (Boundary Increase), Bounded by Bellwood Dr., 20th Ave., Black Warrior R, and 30th Ave., Northport, 04000238.

Walker County

Jasper Downtown Historic District, Roughly bounded by 17th St., Corona Ave., 20th St., and 8th Ave., Jasper, 04000233.

GEORGIA

Bibb County

Wesleyan College Historic District, 4760 Forsyth Rd., Macon, 04000242.

Houston County

New Perry Hotel, 800 Main St., Perry, 04000241.

Muscogee County

Lewis-Rothchild Building, (Columbus MRA), 1214 First Ave.,Columbus, 04000239.

Reich Dry Goods Company, (Columbus MRA), 14 W 11th St., Columbus, 04000240.

IOWA

Hardin County

Steamboat Rock Consolidated Schools Building, 306 W. Market St.,Steamboat Rock, 04000243.

KENTUCKY

Barren County

Ralph Bunche Historic District, Roughly bound by E. College St., Landrum St., Twyman Court and S. Lewis St., Glasgow, 04000247.

Bourbon County

Little Rock-Jackstown Road Rural Historic District, along Little Rock-Jackstown and Soper Rds., Little Rock, 04000246.

Fayette County

African Cemetery No. 2, 419 E. Seventh St., Lexington, 04000245.

Jefferson County

Virginia Avenue Colored School, 3628 Virginia Ave., Louisville, 04000244.

MASSACHUSETTS

Middlesex County

Alewife Brook Parkway, (Metropolitan Park System of Greater Boston MPS), Alewife Brook Parkway, Cambridge, 04000249.

Norfolk County

Furnace Brook Parkway, (Metropolitan Park System of Greater Boston MPS), Furnace Brook Parkway, Quincy, 04000248.

Hammond Pond Parkway, (Metropolitan Park System of Greater Boston MPS), Hammond Pond Parkway, Brookline, 04000250.

MONTANA

Carbon County

Bearcreek Bank, Main and Second Sts., Bearcreek, 04000251.

NEW MEXICO

Bernalillo County

Southern Union Gas Company Building, (Buildings Designed by John Gaw Meem MPS), 723 Silver Ave., SW., Albuquerque, 04000252.

WISCONSIN

Dane County

Heim Mound, Address Restricted, Middleton, 04000254.

Lower Mud Lake Archeological Complex, Address Restricted, Dunn, 04000253.

Observatory Hill Mound Group, Address Restricted, Madison, 04000255.

A request for removal has been made for the following resource:

IOWA

Keokuk County

What Cheer City Hall, Barnes and Washington Sts., What Cheer, 81000252.

[FR Doc. 04-4521 Filed 3-1-04; 8:45 am]

BILLING CODE 4312-51-P